SMALL BUSINESS ADMINISTRATION

[Declaration of Disaster #3304]

State of Michigan; Amendment #3

In accordance with information received from the Federal Emergency Management Agency, dated December 19, 2000, the above-numbered Declaration is hereby amended to extend the deadline for filing applications for physical damages as a result of this disaster to January 19, 2001.

All other information remains the same, i.e., the deadline for filing applications for economic injury is July 17, 2001.

(Catalog of Federal Domestic Assistance Program Nos. 59002 and 59008)

Dated: December 27, 2000.
Allan I. Hoberman,
Acting Associate Administrator for Disaster Assistance.

[FR Doc. 01-906 Filed 1-10-01; 8:45 am]

BILLING CODE 8025-01-P